DEPARTMENT OF LABOR

Employment and Training Administration

Temporary Extended Unemployment Compensation Program Reports; Correction

ACTION: Correction.

SUMMARY: In notice document 02-20611 beginning on page 53023 in the issue of Wednesday, August 14, 2002, make the following correction:

On page 53023 on the second line of the third column, the OMB Control number previously listed as 1205-0009 should be changed to 1205-0433.

Dated: August 16, 2002.
Grace A. Kilbane,
Administrator, Office of Workforce Security.

[FR Doc. 02-21405 Filed 8-21-02; 8:45 am]

BILLING CODE 4510-30-M